DEPARTMENT OF JUSTICE

Notice of Lodging of Proposed Consent Decree Under the Comprehensive Environmental Response, Compensation, and Liability Act

On January 8, 2015, the Department of Justice lodged a proposed Consent Decree with the United States District Court for the Middle District of Florida in the lawsuit entitled United States v. Atlanta Gas Light Company, et al., Civil Action No. 6:15-cv-00028-GAP-TBS.

The proposed Consent Decree resolves the United States' claims against: Atlanta Gas Light Company; Continental Holdings, Inc.; Duke Energy Florida, Inc.; Blaine Pierce; OrlaGroup, LLC; and the City of Orlando (collectively the “Settling Defendants”), for cost recovery and injunctive relief under Sections 106 and 107 of the Comprehensive Environmental Response, Compensation, and Liability Act (CERCLA), 42 U.S.C. 9606 and 9607, relating to the release or threatened release of hazardous substances into the environment at or from Operable Unit 1 (OU1) (the contaminated soil and surficial aquifer beneath the Orlando Former Gasification Plant Superfund Site (Site)), located in Orlando, Orange County, Florida. The terms and conditions of this proposed Decree do not apply to Operable Unit 2 (OU2) (the contaminated deep aquifer beneath the Site), nor are any potentially responsible parties released from possible future claims of liability in regard to OU2.

Under the terms of the proposed Consent Decree, Settling Defendants will undertake the remedial action selected by the United States Environmental Protection Agency for OU1, and will reimburse the United States for all of the government's past costs and future oversight costs incurred or to be incurred, plus interest, in connection with the remedial action for OU1 of the Site. In return, the United States agrees not to sue or take administrative action against Settling Defendants under sections 106 and 107 of CERCLA regarding OU1 of the Site.

The publication of this notice opens a period for public comment on the Consent Decree. Comments should be addressed to the Assistant Attorney General, Environment and Natural Resources Division, and should refer to United States v. Atlanta Gas Light Co., et al., D.J. Ref. No. 90-11-3-11075. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $92.25 (25 cents per page reproduction cost) payable to the United States Treasury for a copy of the Consent Decree with Appendices, or $26.25 (25 cents per page reproduction cost) for a copy of the Consent Decree without Appendices.

Henry S. Friedman,
Assistant Section Chief, Environmental Enforcement Section, Environment and Natural Resources Division.

[FR Doc. 2015-00500 Filed 1-14-15; 8:45 am]

BILLING CODE 4410-15-P